DEPARTMENT OF TRANSPORTATION

Pipeline and Hazardous Materials Safety Administration Office of Hazardous Materials Safety; Notice of Applications for Modification of Special Permit

AGENCY: Pipeline and Hazardous Materials Safety Administration, DOT.

ACTION: List of applications for Modification of Special permit.

SUMMARY: In accordance with the procedures governing the application for, and the processing of, special permits from the Department of Transportation's Hazardous Material Regulations (49 CFR part 107, subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new applications for special permits to facilitate processing.

DATES: Comments must be received on or before February 6, 2007.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the application are available for inspection in the Records Center, Nassif Building, 400 7th Street SW., Washington, DC or a http://dms.dot.gov.

This notice of receipt of applications for modification of special permits is published in accordance with part 107 of the Federal hazardous materials transportation law (49 U.S.C. 5117(b); 49 CFR 1.53(b)).

Issued in Washington, DC, on January 16, 2007.
Delmer F. Billings,
Director, Office of Hazardous Materials, Special Permits & Approvals.

Modification Special Permits
Application No. | Docket No. | Applicant | Regulation(s) affected | Name of special permit thereof
7235-M |  | Luxfer Gas Cylinders, Riverside, CA | 49 CFR 173.302(a)(1); 175.3 | To modify the special permit to authorize the transportation in commerce of an additional division 2.2 gas in DOT-specification cylinders.
10915-M |  | Luxfer Gas Cylinders, Riverside, CA | 49 CFR 173.302(a)(1); 173.304(a)(d); 175.3; 173.34(e) | To modify the special permit to authorize a reduced expansion volume under pressure for cylinders manufactured with positioning bands.
11859-M |  | Carleton, New York, NY | 49 CFR 178.65 | To modify the special permit to authorize the transportation of an additional division 2.2 gas in a non-DOT specification pressure vessel.
12087-M |  | LND, Inc, Oceanside, NY | 49 CFR 172.101, Co. 9; 173.306; 175.3 | To modify the special permit to authorize a piece of equipment as a strong outer packaging.
12574-M |  | Weldship Corporation, Bethlehem, PA | 49 CFR 172.302(c)(2), (3), (4), (5); subpart F of part 180 | To modify the special permit to authorize the transportation in commerce of all hazardous materials currently authorized in DOT specification 107A seamless steel tank cars.
14400-M |  | Ultra Electronics Precision Air Systems, Alexandria, VA | 49 CFR 172.301, 172.400, 173.306, 175.26 | To modify the special permit to authorize an increase of the operational life of a non-DOT specification high pressure compressor system from 20 to 30 years.
14419-M |  | Voltaix, North Branch, NJ | 49 CFR 173.181(a) | To reissue the special permit originally issued on an emergency basis for the transportation in commerce of a Division 4.2 material in cylinders that are not authorized for that material.

[FR Doc. 07-246 Filed 1-19-07; 8:45 am]

BILLING CODE 4909-60-M